ENVIRONMENTAL PROTECTION AGENCY

[FRL-10017-92-OA]

Request for Nominations for a Science Advisory Board Panel

AGENCY: Environmental Protection Agency (EPA).

ACTION: Notice.

SUMMARY: The Environmental Protection Agency (EPA) Science Advisory Board (SAB) Staff Office requests public nominations of scientific experts to form a Panel to review the BenMAP model, an open-source computer program that calculates estimated air pollution-related deaths and illnesses and their associated economic value. BenMAP is a shorthand title referring to the Environmental Benefits Mapping and Analysis Program. The Panel will review the latest available public release version of the BenMAP software.

DATES: Nominations should be submitted by December 29, 2020 per the instructions below.

FOR FURTHER INFORMATION CONTACT: Any member of the public wishing further information regarding this notice and request for nominations may contact Dr. Holly Stallworth, Designated Federal Officer (DFO), EPA Science Advisory Board via telephone/voice mail (202) 564-2073, or email at stallworth.holly@epa.gov. General information concerning the EPA SAB can be found at the EPA SAB website at http://www.epa.gov/sab.

SUPPLEMENTARY INFORMATION: Background: The SAB (42 U.S.C. 4365) is a chartered Federal Advisory Committee that provides independent scientific and technical peer review, advice, and recommendations to the EPA Administrator on the technical basis for EPA actions. As a Federal Advisory Committee, the SAB conducts business in accordance with the Federal Advisory Committee Act (FACA) (5 U.S.C. App. 2) and related regulations. The SAB Staff Office is forming an expert panel, the BenMAP Review Panel under the auspices of the Chartered SAB. The BenMAP Review Panel will provide advice through the chartered SAB. The SAB and the BenMAP Review Panel will comply with the provisions of FACA and all appropriate SAB Staff Office procedural policies. The BenMAP Review Panel will conduct the review of BenMAP as requested by the EPA's Office of Air and Radiation.

Technical Contact for EPA's draft report: For information concerning BenMAP-Community Edition v1.5, please contact Neal Fann by email at fann.neal@epa.gov or phone (919) 541-0209.

Request for Nominations: The SAB Staff Office is seeking nominations of nationally and internationally recognized scientists with demonstrated expertise in the following disciplines: Software development (including C#/.Net and SQL databases); Geographic Information Systems and Geostatistics; Demographics; Risk Assessment; Statistics/Biostatistics; Photochemical Air Quality Modeling; Economics/Non-Market Valuation. The Panel will be asked to examine the C# code in BenMAP and independently validate results so panelists will need the appropriate software experience and general risk assessment experience to conduct this review. Questions regarding this advisory activity should be directed to the DFO, Dr. Holly Stallworth, listed under FOR FURTHER INFORMATION CONTACT.

Process and Deadline for Submitting Nominations: Any interested person or organization may nominate qualified individuals in the areas of expertise described above for possible service on the SAB Panel identified in this notice. Individuals may self-nominate. Nominations should be submitted in electronic format (preferred over hard copy) following the instructions for “Nominating Experts to Advisory Panels and Ad Hoc Committees Being Formed,” provided on the SAB website (see the “Nomination of Experts” link under “Current Activities” at http://www.epa.gov/sab). To receive full consideration, nominations should include all of the information requested below. Nominators unable to submit nominations electronically as described above may contact the DFO, Dr. Holly Stallworth, listed under FOR FURTHER INFORMATION CONTACT.

EPA's SAB Staff Office requests contact information about the person making the nomination; contact information about the nominee; the disciplinary and specific areas of expertise of the nominee; the nominee's resume or curriculum vitae; sources of recent grant and/or contract support; and a biographical sketch of the nominee indicating current position, educational background, research activities, and recent service on other national advisory committees or national professional organizations.

Persons having questions about the nomination procedures, or who are unable to submit nominations through the SAB website, should contact the, Dr. Holly Stallworth, listed under FOR FURTHER INFORMATION CONTACT. Nominations should be submitted in time to arrive no later than December 29, 2020. EPA values and welcomes diversity. In an effort to obtain nominations of diverse candidates, EPA encourages nominations of women and men of all racial and ethnic groups.

The EPA SAB Staff Office will acknowledge receipt of nominations. The names and biosketches of qualified nominees identified by respondents to this Federal Register notice, and additional experts identified by the SAB Staff Office, will be posted in a List of Candidates for the Panel on the SAB website at http://www.epa.gov/sab. Public comments on the List of Candidates will be accepted for 15 days. The public will be requested to provide relevant information or other documentation on nominees that the SAB Staff Office should consider in evaluating candidates.

For the EPA SAB Staff Office a balanced review panel includes candidates who possess the necessary domains of knowledge, the relevant scientific perspectives (which, among other factors, can be influenced by work history and affiliation), and the collective breadth of experience to adequately address the charge. In forming the expert panel, the SAB Staff Office will consider public comments on the List of Candidates, information provided by the candidates themselves, and background information independently gathered by the SAB Staff Office. Selection criteria to be used for panel membership include: (a) Scientific and/or technical expertise, knowledge, and experience (primary factors); (b) availability and willingness to serve; (c) absence of financial conflicts of interest; (d) absence of an appearance of a loss of impartiality; (e) skills working in committees, subcommittees and advisory panels; and, (f) for the panel as a whole, diversity of expertise and scientific points of view.

The SAB Staff Office's evaluation of an absence of financial conflicts of interest will include a review of the “Confidential Financial Disclosure Form for Environmental Protection Agency Special Government Employees” (EPA Form 3110-48). This confidential form allows government officials to determine whether there is a statutory conflict between a person's public responsibilities (which include membership on an EPA federal advisory committee) and private interests and activities, or the appearance of a loss of impartiality, as defined by federal regulation. The form may be viewed and downloaded from the following URL address http://yosemite.epa.gov/sab/sabproduct.nsf/Web/ethics?OpenDocument.

The approved policy under which the EPA SAB Office selects members for subcommittees and review panels is described in the following document: Overview of the Panel Formation Process at the Environmental Protection Agency Science Advisory Board (EPA-SAB-EC-02-010), which is posted on the SAB website at https://yosemite.epa.gov/sab/sabproduct.nsf/WebFiles/OverviewPanelForm/$File/ec02010.pdf.

Thomas Brennan,
Director, EPA Science Advisory Board Staff Office.

[FR Doc. 2020-26472 Filed 11-30-20; 8:45 am]

BILLING CODE 6560-50-P